DEPARTMENT OF HEALTH AND HUMAN SERVICES

National Institutes of Health

Office of Biotechnology Activities, Office of Science Policy, Office of the Director; Notice of Meeting

Pursuant to section 10(a) of the Federal Advisory Committee Act, as amended (5 U.S.C. Appendix 2), notice is hereby given of the second meeting of the National Science Advisory Board for Biosecurity (NSABB).

Under authority 42 U.S.C. 217a, Section 222 of the Public Health Service Act, as amended, the Department of Health and Human Services established NSABB to provide advice, guidance and leadership regarding federal oversight of dual-use research, defined as biological research with legitimate scientific purposes that could be misused to pose a biological threat to public health and/or national security.

The meeting will be open to the public, however, pre-registration is strongly recommended due to space limitations. Persons planning to attend should register online at http://www.biosecurityboard.gov/meetings.asp or by calling The Hill Group (Contact: A.J. Bownas) at 301-897-2789, ext. 100. Individuals who plan to attend and need special assistance, such as sign language interpretation or other reasonable accommodations, should indicate these requirements upon registration.

Name of Committee: National Science Advisory Board for Biosecurity.

Date: November 21, 2005.

Open: 9 a.m. to 6 p.m.

Agenda: Presentations and discussions regarding: (1) Criteria for defining dual-use research in the life sciences; (2) the role of a code of conduct for the life sciences; (3) communication of dual use research; (4) international perspectives on dual use research; (5) public comments; and (6) and other business of the Board.

Place: The National Institutes of Health, Building 31, 6C—Room 10, Bethesda, Maryland.

Contact Person: Allison Chamberlain, NSABB Program Assistant, 6705 Rockledge Drive, Bethesda, Maryland 20892, (301) 402-3090.

This meeting will also be webcast. The draft meeting agenda and other information about NSABB, including information about access to the webcast and pre-registration, will be available at http://www.biosecurityboard.gov/meetings.asp.

Any member of the public interested in presenting oral comments at the meeting may notify the Contact Person listed on this notice at least 10 days in advance of the meeting. Interested individuals and representatives of an organization may submit a letter of intent, a brief description of the organization represented and a short description of the oral presentation. Only one representative of an organization may be allowed to present oral comments. Both printed and electronic copies are requested for the record. In addition, any interested person may file written comments with the committee. All written comments must be received by November 7, 2005 and should be sent via e-mail to nsabb@od.nih.gov with “NSABB Public Comment” as the subject line or by regular mail to 6705 Rockledge Drive, Suite 750, Bethesda, MD 20892, Attention Allison Chamberlain. The statement should include the name, address, telephone number and, when applicable, the business or professional affiliation of the interested person:

Dated: October 20, 2005.
Anthony M. Coelho, Jr.,
Acting Director, Office of Federal Advisory Committee Policy.

[FR Doc. 05-21661 Filed 10-31-05; 8:45 am]

BILLING CODE 4140-01-M